DEPARTMENT OF THE INTERIOR

National Park Service

[5284-TT02-371]

Notice of Availability: Tamiami Trail Modifications: Next Steps Project, Final Environmental Impact Statement, Everglades National Park, Florida

AGENCY: National Park Service, Interior.

ACTION: Notice of Availability.

The Notice of Intent (NOI) for this project referred to it as a “Feasibility Study and Report” based on language in the authorizing legislation. This new appellation was a result of public scoping and internal National Park Service discussions.

SUMMARY: Pursuant to 42 U.S.C. 4332(2)(C) of the National Environmental Policy Act of 1969 and National Park Service (NPS) policy in Director's Order Number 2 (Park Planning) and Director's Order Number 12 (Conservation Planning, Environmental Impact Analysis, and Decision-making), the NPS announces the availability of a Final Environmental Impact Statement (FEIS) for the Tamiami Trail (U.S. Highway 41) Modifications: Next Steps Project for Everglades National Park, Florida.

The 2009 Omnibus Appropriations Act (Pub. L. 111-008, dated March 11, 2009) directed the U.S. Army Corps of Engineers (USACE) to construct modifications to Tamiami Trail (U.S. Highway 41) that were approved in the 2008 Limited Reevaluation Report and Environmental Assessment. The 2009 Omnibus Appropriations Act also directed the NPS to “immediately evaluate the feasibility of additional bridge length, beyond that to be constructed pursuant to the Modified Water Deliveries to Everglades National Park Project (16 U.S.C. 410r-8), including a continuous bridge, or additional bridges or some combination thereof, for the Tamiami Trail (U.S. Highway 41) to restore more natural water flow to Everglades National Park and Florida Bay and for the purpose of restoring habitat within the Park and the ecological connectivity between the Park and the Water Conservation Areas.”

DATES: The NPS will execute a Record of Decision (ROD) no sooner than 30 days following publication by the Environmental Protection Agency of the Notice of Availability of the FEIS.

ADDRESSES: The document will be available for public review online at http://parkplanning.nps.gov/ever. A limited number of compact discs (CDs) and hard copies are available at Park headquarters. You may request a hard copy or CD by contacting Everglades National Park, Attn: Bruce Boler, 950 N. Krome Avenue, Homestead, FL 33030-6733; telephone 305-224-4234.

SUPPLEMENTARY INFORMATION: Public scoping was initiated in the summer of 2009. A newsletter was distributed on May 31, 2009, and a public meeting was held on June 2, 2009, to keep the public informed and involved throughout the planning process. As the lead agency, the NPS conducted several inter-agency/Tribal meetings and one workshop to develop project objectives, identify alternatives, evaluate the benefits of alternatives, and identify a preferred alternative. The draft document was revised as a result of public and agency feedback received during the public comment period. The FEIS provides historical information, existing conditions, alternatives for infrastructure modifications, and related impacts of the alternatives. The FEIS describes six alternatives for consideration, including a no-action alternative that provides for the continuation of the current Tamiami Trail infrastructure configuration. The five action alternatives present a range of infrastructure modification opportunities. The environmental impacts of each alternative, including the no-action alternative, are systematically analyzed in the document.

The six analyzed alternatives (with corresponding identifiers as they appear in the document) are as follows:

• No-Action Alternative: The No-Action Alternative consists of a 1-mile eastern bridge and elevation of the remaining roadway to allow for 8.5 feet stages in the L-29 Canal. This alternative continues the status quo.

• Alternative 1: 2.2 miles of bridges and remaining roadway elevated: Alternative 1 would involve creating conveyance openings through Tamiami Trail by removing 2.2 miles of the existing highway and embankment. Four bridges would be constructed in the openings to replace the removed section of road and maintain vehicle traffic across the openings. This alternative would create 2.2 miles of ecological connectivity and better distribute flows in the western area of the 11-mile project corridor.

• Alternative 2a: 3.3 miles of bridges and remaining roadway elevated: Alternative 2a would involve creating conveyance openings through Tamiami Trail by removing 3.3 miles of the existing highway and embankment. Six bridges would be constructed in the openings to replace the removed section of road and maintain vehicle traffic across the openings. This alternative would create 3.3 miles of ecological connectivity and moderately reduce the adverse effects of high velocity discharges associated with the existing culverts.

• Alternative 4: 1.0 miles of bridging and remaining roadway elevated: Alternative 4 would involve creating conveyance openings through Tamiami Trail by removing 1.0 mile of the existing highway and embankment where the bridging is proposed. Two bridges would be constructed in the opening to replace the removed section of road and maintain vehicle traffic. This alternative would increase ecological connectivity by 1.0 mile.

• Alternative 5: 1.5 miles of bridging and remaining roadway elevated: Alternative 5 would involve creating conveyance openings through Tamiami Trail by removing 1.5 miles of the existing highway and embankment. Three bridges would be constructed in the opening to replace the removed section of road and maintain vehicle traffic. This alternative would increase ecological connectivity by 1.5 miles.

• Alternative 6e: 5.5 miles of bridging and remaining roadway elevated. Alternative 6e is the maximum bridging option and involves creating conveyance openings through Tamiami Trail by removing 5.5 miles of the existing highway and embankment. Four bridges would be constructed in the opening to replace the removed section of road and maintain vehicle traffic. Bridge down-ramp (access ramps) options were also developed for Alternative 6e to maintain access to two commercial airboat facilities: Everglades Safari Park and Coopertown. Option 4 (Modified Parallel Down Ramp) was selected as the preferred option for Everglades Safari and Option 5 (Parallel Down Ramp with Existing Frontage Road) was selected as the preferred option for Coopertown. Alternative 6e would increase ecological connectivity by 5.5 miles, reduce flow velocities below the 0.10 feet per second (fps) threshold that causes harm to marshes, and substantially restore the flow patterns associated with a healthy ridge and slough landscape in Northeast Shark River Slough.

• Common to all action alternatives: The remaining highway embankments along stretches of the road that are not bridged would be reconstructed to raise the crown elevation to 12.3 feet, the minimum required based on the design high water of 9.7 feet and the roadway cross-section geometry.

Preferred Alternative: Alternative 6e was determined to be the preferred alternative (and environmentally preferable alternative) by the NPS and the U.S. Department of the Interior.

Authority: The authority for publishing this notice is 40 CFR 1506.6.

FOR FURTHER INFORMATION CONTACT: Contact Everglades National Park at the address and telephone number shown above.

The responsible official for this Final EIS is the Regional Director, Southeast Region, NPS, 100 Alabama Street, SW., 1924 Building, Atlanta, Georgia 30303.

Dated: December 2, 2010.
Gordon Wissinger,
Deputy Regional Director, Chief of Staff, Southeast Region, National Park Service.

[FR Doc. 2010-31307 Filed 12-13-10; 8:45 am]

BILLING CODE 4310-XH-P